DEPARTMENT OF AGRICULTURE

Animal and Plant Health Inspection Service

[Docket No. APHIS-2009-0073]

Notice of Availability of a Bovine Tuberculosis Program Concept Paper

AGENCY: Animal and Plant Health Inspection Service, USDA.

ACTION: Notice of availability and request for comments.

SUMMARY: We are advising the public that the Animal and Plant Health Inspection Service is making a concept paper describing a new direction for the bovine tuberculosis program available for public review and comment. The cooperative Federal-State-industry effort to eradicate bovine tuberculosis from cattle in the United States has made significant progress since the program's inception in 1917. However, several challenges impede eradication. The concept paper we are making available presents our current thinking about changes we are considering for the bovine tuberculosis to address these challenges.

DATES: We will consider all comments that we receive on or before December 4, 2009.

ADDRESSES: You may submit comments by either of the following methods:

• Federal eRulemaking Portal: Go to http://www.regulations.gov/fdmspublic/component/main?main=DocketDetail&d=APHIS-2009-0073 to submit or view comments and to view supporting and related materials available electronically.

• Postal Mail/Commercial Delivery: Please send two copies of your comment to Docket No. APHIS-2009-0073, Regulatory Analysis and Development, PPD, APHIS, Station 3A-03.8, 4700 River Road Unit 118, Riverdale, MD 20737-1238. Please state that your comment refers to Docket No. APHIS-2009-0073.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Dr. Alecia Naugle, National Tuberculosis Program Coordinator, Ruminant Health Programs, VS, APHIS, 4700 River Road Unit 43, Riverdale, MD 20737; (301) 734-6954.

SUPPLEMENTARY INFORMATION:

Background

Bovine tuberculosis (TB) is a contagious and infectious granulomatous disease caused by the bacterium Mycobacterium bovis. Although commonly defined as a chronic debilitating disease, bovine TB can occasionally assume an acute, rapidly progressive course. While any body tissue can be affected, lesions are most frequently observed in the lymph nodes, lungs, intestines, liver, spleen, pleura, and peritoneum. Although cattle are considered to be the true hosts of M. bovis, the disease has been reported in several other species of both domestic and nondomestic animals, as well as in humans.

At the beginning of the past century, bovine TB caused more losses of livestock than all other livestock diseases combined. This prompted the establishment in the United States of the National Cooperative State/Federal Bovine Tuberculosis Eradication Program for bovine TB in livestock.

In carrying out the national eradication program, the Animal and Plant Health Inspection Service (APHIS) issues and enforces regulations. The regulations require the testing of cattle, bison, and captive cervids for bovine TB, define the Federal bovine TB status levels for States or zones (accredited-free, modified accredited advanced, modified accredited, accreditation preparatory, and nonaccredited), provide the criteria for attaining and maintaining those status levels, and contain testing and movement requirements for cattle, bison, and captive cervids leaving States or zones of a particular status level. These regulations are contained in 9 CFR part 77 and in the Bovine Tuberculosis Eradication Uniform Methods and Rules, 1999, which is incorporated by reference into the regulations.

This document announces the availability of a concept paper, “A New Approach for Managing Bovine Tuberculosis: Veterinary Services' Proposed Action Plan.” Bovine TB has significant animal health, public health, and international trade consequences. The cooperative Federal-State-industry effort to eradicate this disease from cattle in the United States has made significant progress since the program's inception in 1917. However, several challenges impede eradication. This concept paper presents the current thinking of the APHIS' Veterinary Services (VS) about changes we are considering for the TB program to address these challenges.

The concept paper provides an action plan that:

1. Enhances efforts to mitigate disease transmission from wildlife and imported animals;

2. Enhances bovine TB surveillance through a comprehensive national surveillance plan and accelerated development of new diagnostic tests;

3. Expands disease management options and control strategies;

4. Modernizes the regulatory framework to allow VS to better focus resources; and

5. Transitions the bovine TB program from a State classification system to a science-based zoning approach.

The bovine TB concept paper may be viewed on the Internet at the Regulations.gov Web site (see ADDRESSES above for instructions on accessing Regulations.gov). You may request paper copies of the document by calling or writing to the person listed under FOR FURTHER INFORMATION CONTACT. Please refer to the title of the document when requesting copies. The document is also available for review in our reading room (information on the location and hours of the reading room is listed under the heading ADDRESSES at the beginning of this notice).

Done in Washington, DC, this 29th day of September 2009.
Kevin Shea,
Acting Administrator, Animal and Plant Health Inspection Service.

[FR Doc. E9-23948 Filed 10-2-09; 8:45 am]

BILLING CODE 3410-34-P